DEPARTMENT OF ENERGY

Federal Energy Regulatory Commission

Combined Notice of Filings #2

Take notice that the Commission received the following exempt wholesale generator filings:

Docket Numbers: EG25-410-000.

Applicants: Ciro One Salinas LLC.

Description: Ciro One Salinas LLC submits Notice of Self-Certification of Exempt Wholesale Generator Status.

Filed Date: 7/28/25.

Accession Number: 20250728-5041.

Comment Date: 5 p.m. ET 8/18/25.

Docket Numbers: EG25-411-000.

Applicants: NRG Greens Bayou 6 LLC.

Description: NRG Greens Bayou 6 LLC submits Notice of Self-Certification of Exempt Wholesale Generator Status.

Filed Date: 7/28/25.

Accession Number: 20250728-5045.

Comment Date: 5 p.m. ET 8/18/25.

Take notice that the Commission received the following Complaints and Compliance filings in EL Dockets:

Docket Numbers: EL25-106-000.

Applicants: New England Power Generators Association v. ISO New England Inc.

Description: Complaint of New England Power Generators Association v. ISO New England Inc.

Filed Date: 7/25/25.

Accession Number: 20250725-5170.

Comment Date: 5 p.m. ET 8/14/25.

Take notice that the Commission received the following electric rate filings:

Docket Numbers: ER14-867-011; ER14-594-025; ER14-868-012; ER17-1930-014; ER17-1931-014; ER17-1932-014; ER20-649-011.

Applicants: AEP Energy Partners, Inc., Southwestern Electric Power Company, AEP Texas Inc., Public Service Company of Oklahoma, AEP Retail Energy Partners, Ohio Power Company, AEP Energy, Inc.

Description: Notice of Change in Status of AEP Energy, Inc., et al. and Supplements to Market-Based Rate Filings under ER14-867, et al.

Filed Date: 7/24/25.

Accession Number: 20250724-5165.

Comment Date: 5 p.m. ET 8/14/25.

Docket Numbers: ER22-2030-005; ER17-580-007; ER22-2031-006.

Applicants: Sonoran West Solar Holdings 2, LLC, Axium Modesto Solar, LLC, Sonoran West Solar Holdings, LLC.

Description: Triennial Market Power Analysis for Southwest Region of Sonoran West Solar Holdings, LLC, et al.

Filed Date: 7/25/25.

Accession Number: 20250725-5185.

Comment Date: 5 p.m. ET 9/23/25.

Docket Numbers: ER23-2837-002; ER23-2838-002; ER24-113-002; ER24-114-002; ER24-1039-002; ER24-1862-001; ER24-1863-001; ER24-2508-001; ER24-2509-001; ER24-3112-002; ER25-441-002.

Applicants: Richland Township Solar II, LLC, Richland Township Solar, LLC, BCD 2024 Fund 5 Lessee, LLC, Envoy Solar, LLC, BCD 2024 Fund 3 Lessee, LLC, Kimmel Road Solar, LLC, Altona Solar, LLC, BCD 2024 Fund 1 Lessee, LLC, Salt Creek Township Solar, LLC, BCD 2023 Fund 1 Lessee, LLC, Earp Solar, LLC.

Description: Notice of Non-Material Change in Status of Earp Solar, LLC, et al.

Filed Date: 7/25/25.

Accession Number: 20250725-5179.

Comment Date: 5 p.m. ET 8/15/25.

Docket Numbers: ER24-2016-002.

Applicants: MATL LLP.

Description: Compliance filing: Third Compliance Filing Order 2023 (24-2016) to be effective 11/21/2024.

Filed Date: 7/28/25.

Accession Number: 20250728-5082.

Comment Date: 5 p.m. ET 8/18/25.

Docket Numbers: ER25-2989-000.

Applicants: NextEra Energy Duane Arnold, LLC.

Description: Request for Limited and Prospective Waiver, et al. of NextEra Energy Duane Arnold, LLC.

Filed Date: 7/25/25.

Accession Number: 20250725-5173.

Comment Date: 5 p.m. ET 8/11/25.

Docket Numbers: ER25-2991-000.

Applicants: Southwest Power Pool, Inc.

Description: § 205(d) Rate Filing: 2640R2 Sunflower Electric Power Corporation NITSA NOA to be effective 7/1/2025.

Filed Date: 7/28/25.

Accession Number: 20250728-5033.

Comment Date: 5 p.m. ET 8/18/25.

Docket Numbers: ER25-2992-000.

Applicants: Southwest Power Pool, Inc.

Description: § 205(d) Rate Filing: 1628R29 Western Farmers Electric Cooperative NITSA NOAs to be effective 7/1/2025.

Filed Date: 7/28/25.

Accession Number: 20250728-5042.

Comment Date: 5 p.m. ET 8/18/25.

Docket Numbers: ER25-2993-000.

Applicants: PJM Interconnection, L.L.C.

Description: Tariff Amendment: Notice of Cancellation of WMPA, SA No. 5989; AF1-217 re: termination to be effective 9/27/2025.

Filed Date: 7/28/25.

Accession Number: 20250728-5107.

Comment Date: 5 p.m. ET 8/18/25.

Docket Numbers: ER25-2994-000.

Applicants: Idaho Power Company.

Description: § 205(d) Rate Filing: SA #334—NITSA Between IPC and BPA—Fourth Revised Service Agreement to be effective 10/1/2025.

Filed Date: 7/28/25.

Accession Number: 20250728-5114.

Comment Date: 5 p.m. ET 8/18/25.

Docket Numbers: ER25-2995-000.

Applicants: Twin Ridges LLC.

Description: § 205(d) Rate Filing: Twin Ridges LLC Notice of Change in Status to be effective 9/26/2025.

Filed Date: 7/28/25.

Accession Number: 20250728-5121.

Comment Date: 5 p.m. ET 8/18/25.

Docket Numbers: ER25-2996-000.

Applicants: Kingman Wind I, LLC.

Description: § 205(d) Rate Filing: Application for Market-Based Rate Authorization—Kingman Wind I, LLC to be effective 9/27/2025.

Filed Date: 7/28/25.

Accession Number: 20250728-5129.

Comment Date: 5 p.m. ET 8/18/25.

Docket Numbers: ER25-2997-000.

Applicants: Buchanan Generation, LLC.

Description: Tariff Amendment: Notice of Cancellation of Market-Based Rate Tariff to be effective 7/29/2025.

Filed Date: 7/28/25.

Accession Number: 20250728-5130.

Comment Date: 5 p.m. ET 8/18/25.

Take notice that the Commission received the following qualifying facility filings:

Docket Numbers: QF25-1169-000.

Applicants: EQX039-Z15, LLC.

Description: Form 556 of EQX039-Z15, LLC.

Filed Date: 7/24/25.

Accession Number: 20250724-5161.

Comment Date: 5 p.m. ET 8/14/25.

Docket Numbers: QF25-1170-000.

Applicants: EQX039-Z15, LLC.

Description: Form 556 of EQX039-Z15, LLC.

Filed Date: 7/24/25.

Accession Number: 20250724-5163.

Comment Date: 5 p.m. ET 8/14/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 28, 2025.
Carlos D. Clay,
Deputy Secretary.

[FR Doc. 2025-14495 Filed 7-30-25; 8:45 am]

BILLING CODE 6717-01-P